DEPARTMENT OF JUSTICE

Antitrust Division

Notice Pursuant to the National Cooperative Research and Production Act of 1993—Semiconductor Test Consortium, Inc.

Notice is hereby given that, on January 17, 2007, pursuant to Section 6(a) of the National Cooperative Research and Production Act of 1993, 15 U.S.C. 4301 et seq. (“the Act”), Semiconductor Test Consortium, Inc. has filed written notifications simultaneously with the Attorney General and the Federal Trade Commission disclosing changes in its membership. The notifications were filed for the purpose of extending the Act's provisions limiting the recovery of antitrust plaintiffs to actual damages under specified circumstances. Specifically, Rasco GmbH, Kolbermoor, GERMANY; Gerhard Kessler, Munich, GERMANY; Rood Technology GmbH & Co., Nordlingen, GERMANY; Multitestelektron Systems GmbH, Rosenheim, GERMANY; and Form Factor, Inc., Livermore, CA have been added as parties to this venture.

Also, Xandex, Inc., Petaluma, CA; Swanson Semiconductor Service, Fort Worth, TX; PXIT, Lexington, MA; HILEVEL, Irvine, CA; and EADS-North American Defense, Irvine, CA have withdrawn as parties to this venture. In addition, Philips Semiconductors has changed its name to NXP Semiconductors, San Jose, CA.

No other changes have been made in either the membership or planned activity of the group research project. Membership in this group research project remains open, and Semiconductor Test Consortium, Inc. intends to file additional written notifications disclosing all changes in membership.

On May 27, 2003, Semiconductor Test Consortium, Inc. filed its original notification pursuant to Section 6(a) of the Act. The Department of Justice published a notice in the Federal Register pursuant to Section 6(b) of the Act on June 17, 2003 (68 FR 35913).

The last notification was filed with the Department on October 25, 2006. A notice was published in the Federal Register pursuant to Section 6(b) of the Act on November 22, 2006 (71 FR 67643).

Patricia A. Brink,
Deputy Director of Operations, Antitrust Division.

[FR Doc. 07-1200 Filed 3-14-07; 8:45 am]

BILLING CODE 4410-11-M